DEPARTMENT OF HEALTH AND HUMAN SERVICES

Centers for Disease Control and Prevention

[30-Day-12-0765]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call Daniel Holcomb, the CDC Reports Clearance Officer, at (404) 639-5960 or send an email to omb@cdc.gov. Send written comments to CDC Desk Officer, Office of Management and Budget, Washington, DC 20503 or by fax to (202) 395-5806. Written comments should be received within 30 days of this notice.

Proposed Project

Fellowship Management System, OMB No. 0920-0765—Revision—Scientific Education and Professional Development Program Office (SEPDPO), Office of Surveillance, Epidemiology and Laboratory Services (OSELS), Centers for Disease Control and Prevention (CDC).

Background and Brief Description

SEPDPO is requesting approval to revise and extend for three years; CDC's use of the online Fellowship Management System (FMS) to allow public health agencies and organizations to submit fellowship assignment proposals electronically, using FMS. The FMS system will continue to be used for its electronic application and directory processes that allow individuals to apply to fellowships online, track applicant and alumni information.

The mission of SEPDPO is to provide leadership in public health training and education, and manage innovative, evidence-based programs to prepare the health workforce to meet public health challenges of the 21st century. Professionals in public health, epidemiology, medicine, economics, information science, veterinary medicine, nursing, public policy, and other related professions seek opportunities, through CDC fellowships, to broaden their knowledge, skills, and experience to improve the science and practice of public health. CDC fellows are assigned to state, tribal, local and territorial public health agencies; federal government agencies, including CDC, and HHS operational divisions, such as Indian Health Service; and to nongovernmental organizations, including academic institutions, tribal organizations, and private public health organizations.

FMS provides an efficient and effective way for processing fellowship application data, selecting qualified candidates, maintaining a current alumni database, documenting the impact of the fellowships on alumni careers, and generating reports. This proposed revision will provide a secure site within this existing electronic system for designated employees of public health agencies and organizations to submit fellowship assignment proposals electronically.

Designated employees of public health agencies or organizations will answer a standardized set of core questions within FMS about the proposed assignments, including the type of public health agency or organization submitting the proposal; proposed fellow activities, including training and opportunities for service and collaboration; and how the fellow will be supported, including the type and extent of mentorship and supervision the fellow will receive.

This revision enhances FMS to include a function that will result in a standardized process for submitting and reviewing host assignment proposals across fellowships. The electronic assignment proposal process that FMS provides optimizes the matching of qualified fellowship candidates with host sites and will result in an optimal fit between fellows and their assignments—ultimately leading to long-term employment and sustained public health capacity of state and local health departments and other non-federal public health agencies and organizations.

The annual burden table has been updated to reflect the number of respondents from nonfederal public health agencies or organizations that submit assignment proposals to host fellows. Some alumni are deceased or cannot be located. Response burden assumes response from an individual responding alumnus, on average, every 3 years (which is likely an overestimate of frequency). There is no cost to respondents other than their time. The total estimated annual burden hours are 1201.

Estimated Annualized Burden Hours
Type of respondents | Number of respondents | Frequency of response | Average annualized burden per response (in hours)
Public Health Agency or Organization | 226 | 1 | 1.5
Fellowship applicants | 1122 | 1 | 40/60
Fellowship alumni | 454 | 1 | 15/60

Dated: December 29, 2011.
Daniel Holcomb,
Reports Clearance Officer, Centers for Disease Control and Prevention.

[FR Doc. 2011-33798 Filed 1-4-12; 8:45 am]

BILLING CODE 4163-18-P